DEPARTMENT OF EDUCATION

Native American Vocational and Technical Education Program

AGENCY: Office of Vocational and Adult Education, Department of Education.

ACTION: Notice of extension of project period and waiver.

SUMMARY: We hereby waive the requirement in 34 CFR 75.261(c)(2) as it applies to projects funded under the Native American Vocational and Technical Education Program (NAVTEP) in fiscal year (FY) 2000. We waive this requirement in order to be able to extend the project periods for 31 current grants awarded under the FY 2000 NAVTEP competition.

A waiver means that: (1) Current grants will be continued at least through FY 2005 (and possibly for subsequent years, depending on the availability of appropriations for NAVTEP in FY 2005 and those years under the current statutory authority), instead of ending in FY 2004, and (2) we will not announce a new competition or make new awards in FY 2004.

DATES: This notice of extension of project period and waiver is effective July 16, 2004.

FOR FURTHER INFORMATION CONTACT: Sharon A. Jones, U.S. Department of Education, Office of Vocational and Adult Education, 400 Maryland Avenue, SW., room 11108, Potomac Center Plaza, Washington, DC 20202-7120. Telephone (202) 245-7803.

If you use a telecommunications device for the deaf (TDD), you may call the Federal Information Relay Service (FIRS) at 1-800-877-8339.

Individuals with disabilities may obtain this notice of extension of project period and waiver in an alternative format (e.g., Braille, large print, audiotape, or computer diskette) on request to the contact person listed under FOR FURTHER INFORMATION CONTACT.

SUPPLEMENTARY INFORMATION: On April 9, 2004, we published a notice in the Federal Register (69 FR 18887) proposing an extension of project period and waiver in order to give early notice of the possibility that additional years of funding under the NAVTEP may be available for current grantees through continuation awards.

The Carl D. Perkins Vocational and Technical Education Act of 1998 (Perkins Act), which includes authorization for the NAVTEP, expired at the end of FY 2003 and was extended for one year under section 422 of the General Education Provisions Act (20 U.S.C. 1226a). With the uncertainties presented by the absence of authorizing legislation for the NAVTEP beyond 2004, we proposed not to hold a competition in FY 2004 for projects that would then operate for just one year. We stated in the Federal Register notice that we were reluctant to announce a competition under which eligible entities would be expected to proceed through the application preparation and submission process while lacking critical information about the future of the program, and that we did not think that it would be in the public interest to do so in this case. We also noted that if we were to hold a competition in FY 2004 for grants to operate in FY 2005 using the FY 2003 appropriation, grantees would not have sufficient time to establish and operate effective projects.

Accordingly, we proposed to review requests for continuation awards from the 31 current FY 2000 grantees and extend currently funded projects, rather than hold a new competition in FY 2004.

Analysis of Comments

In response to the Secretary's invitation in the notice of proposed extension of project period and waiver, 288 parties submitted comments. An analysis of the comments follows. Generally, we do not address technical and other minor changes and suggested changes that the law does not authorize the Secretary to make. We also do not address comments that are not related to issues discussed in the notice of proposed extension of project period and waiver.

Extension of current grants.

Comments: 286 of the 288 commenters supported the proposed extension of project period and waiver. The commenters generally agreed that, with the uncertainties associated with the absence of authorizing legislation, it is not in the best interest of the public to conduct a grant competition at this time. Several commenters believed that, since we are halfway into 2004, it would be difficult for administrators of current projects to find the time and money to submit new applications this year. The commenters agreed that having current grantees expend the cost and effort required to submit new applications for funding in FY 2004 would be an unnecessary burden.

Several commenters suggested that continuing the awards of current grantees would eliminate the inefficiencies associated with starting new projects for an uncertain duration and uncertain degree of effectiveness. A vast majority of the commenters thought that asking tribes to expend the time, energy, and resources that go into a large-scale application process was not logical or prudent when combined with the lack of time to establish and operate effective new projects.

Several commenters strongly believed that continuing to fund current grantees would capitalize on the successes and effectiveness of those current grantees. Moreover, the commenters thought an application process would divert resources away from training and would be extremely disruptive to current Perkins-funded education and job training programs. Several other commenters pointed out that current projects have expended considerable time, effort, and extensive resources to develop programs, instructional skills, and community support. These commenters felt that continuation of current grants would maximize these expenditures, and actually reduce potential costs and increase benefits, while preserving the effective and efficient administration of NAVTEP.

Many commenters supported the continuation of current grantees' awards because of the benefits they provide to the Indian community. Those commenters noted that current projects offer education, training, and job placement that would not be available without the NAVTEP; provide industry specific training that produces a qualified workforce; graduate trainees who are immediately hired; increase the earning power for people who were underemployed or unemployed; give tribal members an opportunity to attend college, obtain an Associate of Arts degree, and go on to higher education; and provide educational opportunities that improve the lives of students, many of whom are first generation, non-traditional students who are striving to provide a better lifestyle for themselves and their children and grandchildren. Still other commenters thought the current projects allow students to gain the skills and abilities necessary to compete in today's challenging job market as well as provide such intrinsic rewards for students as motivation, self-confidence, self-worth, and the confidence to expand beyond their perceived boundaries. Commenters pointed out that many of the current projects have waiting lists of tribal members wanting to take advantage of the programs being offered.

Discussion: We have considered the comments from individuals, tribes, and tribal organizations. The vast majority support the extension of projects and waiver and favor our proposal to continue the current grants for at least one more year, and perhaps longer, under the current NAVTEP authority. They concluded that they agree with our overall rationale for extending current projects, and that the extension will reduce burden on current grantees and capitalize on the success and effectiveness of current grantees.

Changes: None.

Hold a competition.

Comments: Two commenters recommended that we hold a competition in order to provide an opportunity for all Indian tribes to apply for support under the NAVTEP. One of those commenters also expressed the view that creating an excessive paperwork burden for currently funded grantees was not a legitimate reason for denying tribes, which are not currently receiving funds, access to a source of funds for local jobs and economic development. The commenter thought that well over 500 tribes would be deprived of a chance to apply for NAVTEP funds, and potentially experience a devastating economic impact, if we do not hold a competition in FY 2004. The commenter also thought our inability to “guarantee” new grantees more than one year of funding was not sufficient reason to continue funding current grantees, rather than announcing a new competition. The commenter reasoned that the amount of money received by successful NAVTEP grantees would more than compensate them for the effort of preparing an application. Additionally, the commenter thought the Perkins Act (which authorizes the NAVTEP) would not be reauthorized for several years and recommended that we award multi-year grants to new recipients rather than continue to fund grantees that have already received three years of funding. Yet another commenter expressed a desire for an opportunity to apply for NAVTEP funds this year, but thought it more important to see the projects of other Native Americans succeed.

Discussion: In response to the two commenters who expressed the above stated concerns about our proposal, first we would like to clarify that while we will accept requests for continuation proposals from the 31 current grantees for at least one additional year, in lieu of holding a new competition in FY 2004, this will not preclude the Department from holding a competition in FY 2005 or thereafter should we find that the circumstances support such a decision. Most significantly, in the event of a reauthorization, it is likely that we will hold a new competition, under the new statutory authority. If we decide to hold a grant competition in FY 2005 or thereafter, we will announce our decision and the reasons for that decision through a notice in the Federal Register.

As to the comment regarding the number of Indian tribes that may be affected by our decision not to announce a new NAVTEP competition in FY 2004, we also note that, although there are over 500 Federally recognized Indian tribes, most of them historically have not chosen to apply for NAVTEP funds. In fact, over the history of competitions under the NAVTEP and the predecessor Indian Vocational Education Program, on average only 78 Federally recognized tribes actually submitted applications during any given competition.

In addition, neither in our notice of proposed extension of current grants, nor here in our final notice, do we rely exclusively or primarily on a desire to avoid what the commenter refers to as “excessive paperwork burden” for currently funded grantees in support of our decision, as the commenter seems to suggest. Rather, we refer to multiple factors, such as, the uncertainty of a statutory basis for the program beyond FY 2004, the fact that multi-year projects are clearly preferable in the NAVTEP, the fact that without reauthorization it is difficult if not impossible to plan for multi-year projects, and the cost and work involved in submitting a NAVTEP application. Finally, the commenter's statement that the Perkins Act is not likely to be reauthorized for several years is purely speculative and unpersuasive as support for the accompanying recommendation that the Department award multi-year grants to new applicants, rather than continue to fund current grantees.

Changes: None.

Length of project period.

Comments: One commenter did not think holding a competition for one-year projects was advisable because new grantees spend at least the first six months of new projects gearing up to meet the grant requirements. The commenter, therefore, reasoned that new grantees would have difficulty operating effective projects for only one year. Several other commenters recommended awarding three-year continuation grants to the current grantees. Yet another commenter stated that a period of three years was not enough time to operate projects and suggested that a period of five or six years would be a much more cost efficient and viable project period.

Discussion: First, we agree that many new grantees use a portion of the first year to get projects underway and, therefore, need more than a year to implement a project successfully. However, with the extension of current grants, there will be no start-up period. If continued, current projects would simply continue to address the same program goals and objectives as contained in their original applications and budget proposals.

Second, with regard to the suggestions that we award multi-year continuation grants, under § 75.251 of the Education Department's General Administrative regulations, the Secretary “usually approves a budget period and makes a continuation award of not more than 12 months, even if the project has a multi-year project period.” (34 CFR 75.251) The awarding of 12-month continuation awards within multi-year projects is entirely consistent with the Secretary's administrative oversight and technical assistance role as well as with the annual appropriation cycle. We see no reason to do otherwise in NAVTEP, even under these circumstances.

Change: None.

Waiver of Delayed Effective Date

The Administrative Procedure Act requires that a substantive rule shall be published at least 30 days before its effective date, except as otherwise provided for good cause (5 U.S.C. 553(d)(3)). During the 30-day public comment period we received only two comments objecting to the proposed extension of project period and waiver. For this reason, and in order to make timely continuation grants to the entities affected, the Secretary has determined that a delayed effective date is not required.

Waiver of Education Department General Administrative Regulations

In order to provide for continuation awards, we waive the requirement in 34 CFR 75.261(c)(2), which establishes the conditions for extending a project period, including prohibiting the extension of a program's project period if it involves the obligation of additional Federal funds.

This waiver means that: (1) Current NAVTEP grantees will be authorized to apply for continuation awards in FY 2004 and could be continued at least through FY 2005 (and possibly for subsequent years, depending on the availability of appropriations for the NAVTEP in FY 2005 and subsequent years under the current statutory authority), instead of ending their current projects in FY 2004, (2) we will not announce a new competition or make new awards in FY 2004 and may not announce new competitions in future years in which Congress appropriates funds under the current authority, (3) the notice inviting applications for new awards for FY 2000 under the NAVTEP published in the Federal Register on January 3, 2001 (66 FR 560) will govern any projects we extend under this notice, and (4) the approved applications submitted by the 31 current grantees in the 2001 competition will govern all such continuation awards.

Continuation of the Current Grantee Awards

With this waiver of 34 CFR 75.261(c)(2), we would extend the project periods of the 31 NAVTEP grantees that received grants under the FY 2000 competition for one year, and possibly for additional years for which Congress appropriates funds under the current statutory authority.

Decisions regarding annual continuation awards will be based on the program narratives, budgets and budget narratives, Grant Performance Reports submitted by grantees, and the regulations in 34 CFR 75.253. Consistent with 34 CFR 75.253, we will award continuation grants if we determine, based on information provided by each grantee, that it is making substantial progress performing its NAVTEP grant activities. Under this notice of extension of project period and waiver, (1) the project period for grantees will be extended for one additional year, and (2) additional continuation awards could be made for any additional year or years for which Congress appropriates funds under existing statutory authority.

We do not interpret the waiver as exempting current grantees from the account-closing provisions of Public Law 101-510, or as extending the availability of FY 2000 funds awarded to the grantees. As a result of Public Law 101-510, appropriations available for a limited period may be used for payments of valid obligations for only five years after the expiration of their period of availability for Federal obligation. After that time, the unexpended balance of those funds is canceled and returned to the Treasury Department and is unavailable for restoration for any purpose.

Regulatory Flexibility Act Certification

The Secretary certifies that the extension of project period and waiver and the activities required to support additional years of funding will not have a significant economic impact on a substantial number of small entities.

The small entities that would be affected by this extension of project period and waiver are the FY 2000 grantees currently receiving Federal funds and the following entities that are eligible for an award under the NAVTEP:

(1) A Federally recognized Indian tribe.

(2) A tribal organization.

(3) An Alaska Native entity.

(4) A Bureau-funded school (as defined in the January 3, 2001, notice inviting applications (66 FR 560)), except for a Bureau-funded school proposing to use its award to support secondary school vocational and technical education programs.

However, this extension of project period and waiver is not likely to have a significant economic impact on these entities because the extension of project period and waiver and the activities required to support the additional years of funding will not impose excessive regulatory burdens or require unnecessary Federal supervision. This extension of project period and waiver will impose minimal requirements to ensure the proper expenditure of program funds, including requirements that are standard to continuation awards.

Instructions for Requesting a Continuation Award

Generally, in order to receive a continuation grant, a grantee must submit an annual program narrative that describes the activities it intends to carry out during the year of the continuation award. The activities must be consistent with, or be a logical extension of, the scope, goals, and objectives of the grantee's application approved under the FY 2000 competition. A grantee must also submit a budget and budget narrative for each year it requests a continuation award. (34 CFR 75.253(c)(2)). A grantee should request a continuation award at least 30 days before its current grant expires. A grantee may request a continuation award for any year for which Congress appropriates funds under the current statutory authority, unless the Department holds a grant competition under the NAVTEP.

Amount of New Awards Under Continuation Grant

The actual amount of any continuation award depends on factors such as: (1) The grantee's written statement describing how the funds made available under the continuation award will be used, (2) a cost analysis of the grantee's budget by the Department, and (3) whether the unobligated funds made available are needed to complete activities that were planned for completion in the prior budget period. (34 CFR 75.232 and 75.253(c)(2)(ii) and (3)).

Paperwork Reduction Act of 1995

This extension of project period and waiver do not contain any information collection requirements.

Intergovernmental Review

The NAVTEP is not subject to Executive Order 12372 and the regulations in 34 CFR part 79.

Assessment of Educational Impact

In the April 9, 2004, notice of proposed extension of project period and waiver (69 FR 18887) we requested comments on whether the proposed extension of project period and waiver would require transmission of information that any other agency or authority of the United States gathers or makes available.

Based on the responses to that notice, and our own review, we have determined that this final notice of extension of project period and waiver does not require transmission of information that any other agency or authority of the United States gathers or makes available.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.101 Native American Vocational and Technical Education Program.)

Program Authority: 20 U.S.C. 2326(a) through (g).

Dated: July 13, 2004.
Susan Sclafani,
Assistant Secretary for Vocational and Adult Education.

[FR Doc. 04-16231 Filed 7-15-04; 8:45 am]

BILLING CODE 4000-01-P